DEPARTMENT OF ENERGY

Basic Energy Sciences Advisory Committee

AGENCY: Department of Energy, Office of Science.

ACTION: Notice of open meeting.

SUMMARY: This notice announces an open meeting of the Basic Energy Sciences Advisory Committee (BESAC). The Federal Advisory Committee Act (Pub. L. 92-463, 86 Stat. 770) requires that public notice of these meetings be announced in the Federal Register.

DATES: Tuesday, July 29, 2014, Wednesday, July 30, 2014, 8:30 a.m.-5:00 p.m., 9:00 a.m.-12:00 noon.

ADDRESSES: Bethesda North Hotel and Conference Center, 5701 Marinelli Road, Bethesda, MD 20852.

FOR FURTHER INFORMATION CONTACT: Katie Perine, Office of Basic Energy Sciences; U.S. Department of Energy; SC-22/Germantown Building, 1000 Independence Avenue SW., Washington, DC 20585; Telephone: (301) 903-6529

SUPPLEMENTARY INFORMATION:

Purpose of the Meeting: The purpose of this meeting is to provide advice and guidance with respect to the basic energy sciences research program.

Tentative Agenda: Agenda will include discussions of the following:

• News from Office of Science/DOE

• News from the Office of Basic Energy Sciences

• Big Data Center for Applied Mathematics for Energy Research

• Big Ideas Summit and DOE Tech Team Summary

• JCESR Upgrade

• COY Report for the Chemical Sciences, Geosciences and Biosciences Division

• Evolution of the Energy Landscape

• Summary of the Future of Electron Scattering and Diffraction Workshop

• Grand Challenge Update and Initial Discussion of BESAC Charge

Public Participation: The meeting is open to the public. If you would like to file a written statement with the Committee, you may do so either before or after the meeting. If you would like to make oral statements regarding any of the items on the agenda, you should contact Katie Perine at (301) 903-6594 (fax) or via email Katie.perine@science.doe.gov.

Reasonable provision will be made to include the scheduled oral statements on the agenda. The Chairperson of the Committee will conduct the meeting to facilitate the orderly conduct of business. Public comment will follow the 10-minute rule.

Minutes: The minutes of this meeting will be available after 45 days by contacting Ms. Katie Perine at the address or email above.

Issued at Washington, DC, on July 10, 2014.
LaTanya R. Butler,
Committee Management Officer.

[FR Doc. 2014-16685 Filed 7-15-14; 8:45 am]

BILLING CODE 6450-01-P